DEPARTMENT OF TRANSPORTATION

Federal Motor Carrier Safety Administration

Amended Pre-Trip Safety Information for Motorcoach Passengers

AGENCY: Federal Motor Carrier Safety Administration (FMCSA), DOT.

ACTION: Notice.

SUMMARY: The FMCSA amends its pre-trip safety guidance recommending that the motorcoach industry encourage passengers to use lap/shoulder seat belts. This amended guidance is provided in response to National Transportation Safety Board (NTSB) recommendations and the National Highway Transportation Safety Administration's (NHTSA) Final Rule published on November 25, 2013 [78 FR 70416] titled, “Federal Motor Vehicle Safety Standards; Occupant Crash Protection.”

FOR FURTHER INFORMATION CONTACT: Mr. Gregory Nahmens, Commercial Passenger Carrier Safety Division (MC-ECP), greg.nahmens@dot.gov, 202-366-5054. Office hours are from 8:00 a.m. to 5:00 p.m., E.T., Monday through Friday, except Federal holidays.

SUPPLEMENTARY INFORMATION:

Background

On February 26, 1999, the NTSB issued recommendations H-99-7 and H-99-8 to the Secretary of Transportation concerning safety briefing materials for motorcoach operators, and pre-trip safety information for passengers. The recommendations provided as follows:

H-99-7 Provide guidance on the minimum information to be included in safety briefing materials for motorcoach operators.

H-99-8 Require motorcoach operators to provide passengers with pre-trip safety information.

The recommendations resulted from NTSB's special investigation report, “Selective Motorcoach Issues,” which included two motorcoach crashes from the late 1990s where passengers felt a general sense of panic and did not know what to do on a motorcoach during the emergency. The NTSB concluded that emergency instructions can be crucial to a safe and expedient evacuation in the event of a motorcoach crash or emergency.

In the spring of 2003, FMCSA formed a stakeholder working group to develop guidance in response to the NTSB recommendations. The working group met on September 16, 2003. Because of the operational variances in the industry, making it inappropriate to apply one basic regulatory approach universally, FMCSA decided to allow motorcoach companies the flexibility to conduct pre-trip safety briefings that are tailored to each individual company's overall safety and operational procedures. FMCSA concluded, based upon the diverse operational types of motorcoach carriers, that it would be best to initially encourage the motorcoach industry to take voluntary action to improve pre-trip safety awareness for passengers.

A notice and request for comments was published in the Federal Register on August 28, 2006, [71 FR 50971] which proposed the voluntary adoption of pre-trip safety briefings by the motorcoach industry, with flexible implementation in consideration of the diverse operational types and styles.

On September 13, 2007, the FMCSA published a final notice in the Federal Register [72 FR 52424] announcing the Agency's “Basic Plan for Motorcoach Passenger Safety Awareness,” and ranking the recommended safety topics in order of importance with a list of examples of the various methods for presenting the safety information.

To assist the motorcoach industry with implementation of passenger safety-awareness programs, FMCSA developed materials including two sample pamphlets, a pre-trip informational poster, and an audio pre-trip safety briefing which was translated into six foreign languages and recorded. These informational tools were mailed to all registered motorcoach companies, distributed at industry seminars and conferences, and placed on FMCSA's Web site to encourage free downloading, adoption, and use.

More recently, NHTSA published a Final Rule on November 25, 2013, [78 FR 70416] titled, “Federal Motor Vehicle Safety Standards; Occupant Crash Protection,” which amended Federal Motor Vehicle Safety Standards (FMVSS) numbers 208 and 210 to require lap/shoulder seat belts for each passenger seating position in all new over-the-road buses, and in new buses other than over-the-road buses with a gross vehicle weight rating greater than 26,000 pounds, with certain exclusions. Prior to this, seat belts were only required to be installed for the driver.

On August 4, 2015, in response to a multiple-fatality crash in Orland, California, the previous year involving a motorcoach and subsequent fire, NTSB issued new recommendations to FMCSA concerning safety briefing materials for motorcoach operators, and pre-trip safety information for passengers. The recommendations are provided below.

H-15-14 Require all passenger motor carrier operators to (1) provide passengers with pre-trip safety information that includes, at a minimum, a demonstration of the location of all exits, explains how to operate the exits in an emergency, and emphasizes the importance of wearing seat belts, if available; and (2) also place printed instructions in readily accessible locations for each passenger to help reinforce exit operation and seat belt usage.

H-15-15 Update your Web site guidance to include information on the mandated three-point restraints effective November 2016 for all new over-the-road buses and for other than over-the-road buses with a gross vehicle weight rating greater than 11,793 kilograms (26,000 pounds).

With this notice, FMCSA is adding the use of seat belts to the previously issued pre-trip safety information for passenger carriers. In an effort to assist motorcoach companies with implementing this amended safety-awareness program for passengers, FMCSA has developed sample safety information, which it makes available to motorcoach carriers and passengers through presentations, during industry and public safety events and through the FMCSA public Web site at https://www.fmcsa.dot.gov/safety/passenger-safety/pre-trip-safety-information-bus-passengers. An electronic version of the safety briefing information is available in both English and other languages. Content is also available on the Agency's Web site which can be downloaded and printed for the convenience and use of the industry and public. These materials are available at no charge and can be used by motorcoach companies whether they choose to distribute safety information to passengers during boarding or elect to place safety briefing information in the pouches or sleeves of the seatbacks.

Amended Basic Plan for Motorcoach Passenger Safety Awareness

FMCSA announces the following revisions to the Basic Plan; they are listed in order of importance.

Amended Basic Plan for Motorcoach Passenger Safety Awareness

Recommended Safety Topics To Be Covered

1. Emergency exits—Point out the location of all emergency exits (push-out windows, roof vent, and side door) and explain how to operate them. Emphasize that, whenever feasible, the motorcoach door should be the primary exit choice. Encourage able-bodied passengers to assist any injured or mobility-impaired passengers during an emergency evacuation. Provide passengers with sufficient guidance to ensure compliance with 49 CFR 392.62, “Safe operation, buses.”

2. Seat Belt Use—If equipped, recommend the use of shoulder/lap seat belts whenever passengers occupy any seating position.

3. Emergency Contact—Advise passengers to call 911 by cellular telephone in the event of an emergency.

4. Driver Direction—Advise passengers to look to the driver for direction and follow his/her instructions.

5. Fire Extinguisher—Point out the location of the fire extinguisher.

6. Restroom Emergency Push Button or Switch—Inform motorcoach passengers of the emergency signal device in the restroom.

7. Avoiding Slips and Falls—Warn passengers to exercise care when boarding and exiting the motorcoach and to use the handrail when ascending or descending steps. Encourage passengers to remain seated as much as possible while the motorcoach is in motion. If it is necessary to walk while the motorcoach is moving, passengers should always use handrails and supports.

Methods of Presenting the Amended Safety Information

The following presentation methods are examples of how to present safety information to motorcoach passengers. The list below should not be construed to restrict combinations of the following methods or additional presentation methods.

1. During passenger boarding—Informational pamphlets or printed materials could be distributed to motorcoach passengers during boarding.

2. After passenger boarding and immediately prior to moving the motorcoach—

a. The driver requests the passengers to review informational pamphlets/printed materials located in the seat back pocket.

b. The driver provides an oral presentation (similar to the presentations by airline flight attendants prior to take-off) with or without informational pamphlets/printed materials as visual aids.

c. An automated presentation over the motorcoach audio system.

d. An automated presentation over the motorcoach video system.

Timing and Frequency of the Presentation

Demand-responsive motorcoach operations, such as charters and tour services, should present the safety information to motorcoach passengers after boarding and prior to movement of the motorcoach.

Fixed route motorcoach service operations should present the safety information at all major stops or terminals, after any new passengers have boarded and prior to movement of the motorcoach.

Issued on: August 18, 2016.
T.F. Scott, Darling, III,
Administrator.

[FR Doc. 2016-20493 Filed 8-25-16; 8:45 am]

BILLING CODE 4910-EX-P